DEPARTMENT OF STATE

[Public Notice: 8095]

Notification of the Next Meetings of the U.S.-Chile FTA Environmental Affairs Council and ECA Joint Commission for Environmental Cooperation and Request for Comments on the Meeting Agenda

AGENCY: Department of State.

ACTION: Notice of the next meeting of the U.S.-Chile Free Trade Agreement Environmental Affairs Council and Environmental Cooperation Agreement Joint Commission for Environmental Cooperation and request for comments on the meeting agenda.

SUMMARY: The Department of State and the Office of the United States Trade Representative (“USTR”) are providing notice that the United States and Chile intend to hold the sixth meeting of the Environmental Affairs Council (the “Council”) and the fourth meeting of the Joint Commission for Environmental Cooperation (the “Commission”) in Santiago, Chile, on January 9, 2013. The United States and Chile created the Council and Commission pursuant to Chapter 19 (Environment) of the United States-Chile Free Trade Agreement (“FTA”) and Article II of the United States-Chile Environmental Cooperation Agreement (“ECA”), respectively.

During the Council meeting, the United States and Chile (collectively the “Parties”) will discuss their respective implementation of and progress under Chapter 19. During the Commission meeting, the Parties will provide an overview of environmental cooperation projects and the impact of those projects in their countries, and present and sign the new 2012-2014 Work Program for Environmental Cooperation. All interested persons are invited to attend a public session in the afternoon where they will have the opportunity to ask questions and discuss implementation of Chapter 19 and environmental cooperation with Council and Commission Members. The time and location of the public session is still being determined; for more information please contact Rebecca Slocum and Leslie Yang (contact information below).

The Department of State and USTR also invite interested agencies, organizations, and members of the public to submit written comments or suggestions regarding the meeting agenda. In preparing comments, we encourage submitters to refer to: (1) The United States-Chile Environmental Cooperation Agreement; (2) the United States-Chile 2009-2011 Work Program for Environmental Cooperation; (3) Chapter 19 (Environment) of the United States-Chile Free Trade Agreement; and (4) the Environmental Review of the United States-Chile Free Trade Agreement. These documents are available at http://www.state.gov/e/oes/env/trade/chile/index.htm.

DATES: The Council and Commission meetings are to be held January 9, 2013 in Santiago, Chile. To be assured of timely consideration, all written comments or suggestions for the agenda are requested no later than December 14, 2012.

ADDRESSES: Written comments or suggestions should be submitted to both: (1) Rebecca Slocum, U.S. Department of State, Bureau of Oceans and International Environmental and Scientific Affairs, Office of Environmental Quality and Transboundary Issues by email to SlocumRB@state.gov with the subject line “U.S.-Chile EAC/JCEC Meetings” or fax to (202) 647-5947; and (2) Leslie Yang, Director for International Environmental Policy, Office of the United States Trade Representative by email to Leslie_Yang@ustr.eop.gov with the subject line “U.S-Chile EAC/JCEC Meetings” or by fax to (202) 395-9517. If you have access to the Internet you can view and comment on this notice by going to: http://www.regulations.gov/#!home and searching on docket number DOS-2012-0057.

FOR FURTHER INFORMATION CONTACT: Rebecca Slocum, (202) 647-4828 or Leslie Yang, (202) 395-3167.

SUPPLEMENTARY INFORMATION: Article 19.3 of the United States-Chile FTA establishes an Environment Affairs Council, which shall meet to discuss the implementation of, and progress under, Chapter 19 (Environment). Article 19.3 further provides that meetings of the Council shall include a public session, unless the Parties otherwise agree.

The United States and Chile established the U.S.-Chile Joint Commission for Environmental Cooperation when they signed the U.S.-Chile ECA on June 17, 2003, negotiated in concert with the U.S.-Chile FTA. The Commission is to meet every two years to advance environmental cooperation and review progress in implementing the ECA. The Commission also is responsible for establishing and developing work programs that reflect national priorities for cooperative environmental activities.

Please refer to the Department of State Web site at http://www.state.gov/e/oes/env/trade/index.htm and the USTR Web site at www.ustr.gov for more information.

Disclaimer: This Public Notice is a request for comments and suggestions, and is not a request for applications. No granting of money is directly associated with this request for suggestions for the meeting agenda. There is no expectation of resources or funding associated with any comments or suggestions for the agenda.

Dated: November 20, 2012.
George N. Sibley,
Director, Office of Environmental Quality and Transboundary Issues, Department of State.

[FR Doc. 2012-28770 Filed 11-26-12; 8:45 am]

BILLING CODE 4710-09-P